DEPARTMENT OF HEALTH AND HUMAN SERVICES

Meeting of the National Vaccine Advisory Committee

AGENCY: Department of Health and Human Services, Office of the Secretary, Office of Public Health and Science.

ACTION: Notice of meeting.

SUMMARY: As stipulated by the Federal Advisory Committee Act, the Department of Health and Human Services (HHS) is hereby giving notice that the National Vaccine Advisory Committee (NVAC) will hold a meeting. The meeting is open to the public. Pre-registration is required for both public attendance and comment. Any individual who wishes to attend the meeting and/or participate in the public comment session should e-mail nvpo@hhs.gov or call 202-690-5566. Audio conferencing will be available for the second day of the meeting.

DATES: The meeting will be held on February 5, 2009, from 8:30 a.m. to 6:30 p.m. and on February 6, 2009, from 8 a.m. to 3:30 p.m.

ADDRESSES: Department of Health and Human Services; Hubert H. Humphrey Building, Room 800; 200 Independence Avenue, SW., Washington, DC 20201.

FOR FURTHER INFORMATION CONTACT: Ms. Andrea Krull, National Vaccine Program Office, Department of Health and Human Services, Room 443-H, Hubert H. Humphrey Building, 200 Independence Avenue, SW., Washington, DC 20201. Phone: (202) 690-5566; Fax: (202) 260-1165; e-mail: nvpo@hhs.gov.

SUPPLEMENTARY INFORMATION: Pursuant to Section 2101 of the Public Health Service Act (42 U.S.C. Section 300aa-1), the Secretary of Health and Human Services was mandated to establish the National Vaccine Program to achieve optimal prevention of human infectious diseases through immunization and to achieve optimal prevention against adverse reactions to vaccines. The National Vaccine Advisory Committee was established to provide advice and make recommendations to the Director of the National Vaccine Program, on matters related to the Program's responsibilities. The Assistant Secretary for Health serves as Director of the National Vaccine Program.

Topics to be discussed at the meeting on Thursday, February 5, 2009 include vaccine financing, vaccine safety, vaccine stockpile, seasonal influenza and related issues, vaccine development, and the National Vaccine Plan. Updates will be given by the NVAC Financing, Adult Immunization, and Safety working groups. The meeting on Friday, February 6, 2009 is a full day stakeholders' meeting to discuss the draft strategic National Vaccine Plan. The draft plan can be viewed at the following Web site: http://www.hhs.gov/nvpo/vacc_plan/. The meeting will begin with a plenary session to provide an overview of the day's agenda followed by break-out sessions for each of the five draft strategic National Vaccine Plan goals. Audio-conferencing will be available for the stakeholders' meeting on February 6, 2009 for the plenary as well as break-out sessions. Call-in numbers for the meeting are as follows: plenary sessions on February 6: (888) 390-3413 (passcode: 60302); goal 1: research (888) 469-1340 (passcode 27271); goal 2: safety (888) 989-4406 (passcode 41520); goal 3: communication (800) 779-6844 (passcode 19562); goal 4: supply (888) 994-8791 (passcode 37886); and goal 5: global health (888) 989-4717 (passcode 12377). Agendas for each day of the meeting will be posted on the NVAC Web site: www.hhs.gov/nvpo/nvac by January 21, 2009.

Public attendance at the meeting is limited to space available. Individuals who plan to attend and need special assistance, such as sign language interpretation or other reasonable accommodations, should notify the designated contact person at least one week prior to the meeting. Members of the public will have the opportunity to provide comments at the meeting. Public comment will be limited to five minutes per speaker. Individuals who would like to submit written statements should e-mail or fax their comments to the National Vaccine Program Office at least five business days prior to the meeting. A separate Federal Register Notice will be issued with detailed instructions for submitting comments about the draft strategic National Vaccine Plan. Any members of the public who wish to have printed material distributed to NVAC members should submit materials to the Executive Secretary, NVAC, through the contact person listed above prior to close of business January 30, 2009.

Dated: January 5, 2009.
Bruce Gellin,
Deputy Assistant Secretary for Health, Director, National Vaccine Program Office.

[FR Doc. E9-498 Filed 1-13-09; 8:45 am]

BILLING CODE 4150-44-P